DEPARTMENT OF TRANSPORTATION

Federal Aviation Administration

14 CFR Part 39

[Docket No. 2003-CE-51-AD; Amendment 39-13857; AD 2004-23-02]

RIN 2120-AA64

Airworthiness Directives; Raytheon Aircraft Company 65, 90, 99, 100, 200, and 1900 Series Airplanes, and Models 70 and 300 Airplanes

AGENCY: Federal Aviation Administration (FAA), DOT.

ACTION: Final rule; correction.

SUMMARY: This document makes a correction to Airworthiness Directive (AD) 2004-23-02, which was published in the Federal Register on November 9, 2004 (69 FR 64842), and applies to all Raytheon Aircraft Company (Raytheon) 65, 90, 99, 100, 200, and 1900 series airplanes and Models 70 and 300 airplanes. AD 2004-23-2 requires repetitive inspections of the nose landing gear (NLG) fork for cracks with replacement if cracks are found (replacement terminates repetitive inspections). Current language in paragraph (e)(3) of AD 2004-23-02 references Part III of the Accomplishment Instructions of the service bulletin instead of Part II. This document corrects that paragraph by changing the reference from Part III to Part II.

DATES: The effective date of this AD (2004-23-02) remains December 23, 2004.

FOR FURTHER INFORMATION CONTACT: Steven E. Potter, Aerospace Engineer, Wichita Aircraft Certification Office (ACO), FAA, 1801 Airport Road, Wichita, Kansas 67209; telephone: (316) 946-4124; facsimile: (316) 946-4407.

SUPPLEMENTARY INFORMATION:

Discussion

On November 1, 2004, the FAA issued AD 2004-23-02, Amendment 39-13857 (69 FR 64842, November 9, 2004), which applies to all 65, 90, 99, 100, 200, and 1900 series airplanes and Models 70 and 300 airplanes. AD 2004-23-2 requires repetitive inspections of the NLG fork for cracks with replacement if cracks are found (replacement terminates repetitive inspections). Current language in paragraph (e)(3) of AD 2004-23-02 references Part III of the Accomplishment Instructions of Raytheon Mandatory Service Bulletin SB 32-2102, Revision 7, Revised: July, 2003, instead of Part II.

Need for the Correction

This correction is needed to specify the correct section of the service bulletin necessary to do the actions of AD 2004-23-02.

Correction of Publication

Accordingly, the publication of November 9, 2004 (69 FR 64842), of Amendment 39-13857, AD 2004-23-02, which was the subject of FR Doc. 04-24718, is corrected as follows:

PART 39—AIRWORTHINESS DIRECTIVES

1. The authority citation for part 39 continues to read as follows:

Authority: 49 U.S.C. 106(g), 40113, 44701.

§ 39.13 [Corrected]

2. On page 64845, in § 39.13 [Amended], in paragraph (e)(3), in the Procedures column, remove the phrase “Part III” and add “Part II” in its place.

Action is taken herein to correct this reference in AD 2004-23-02 and to add this AD correction to § 39.13 of the Federal Aviation Regulations (14 CFR 39.13).

The effective date remains December 23, 2004.

Issued in Kansas City, Missouri, on February 9, 2007.
David R. Showers,
Acting Manager, Small Airplane Directorate, Aircraft Certification Service.

[FR Doc. E7-2754 Filed 2-15-07; 8:45 am]

BILLING CODE 4910-13-P